DEPARTMENT OF ENERGY

Federal Energy Regulatory Commission

Combined Notice of Filings #1

Take notice that the Commission received the following electric corporate filings:

Docket Numbers: EC17-98-000.

Applicants: Tonopah Solar Energy, LLC.

Description: Application for Authorization Under Section 203 of the Federal Power Act and Request for Waivers and Expedited Action of Tonopah Solar Energy, LLC.

Filed Date: 3/24/17.

Accession Number: 20170324-5332.

Comments Due: 5 p.m. ET 4/14/17.

Take notice that the Commission received the following exempt wholesale generator filings:

Docket Numbers: EG17-83-000.

Applicants: Willow Springs Windfarm, LLC.

Description: Notice of Self-Certification of Exempt Wholesale Generator Status of Willow Springs Windfarm, LLC.

Filed Date: 3/27/17.

Accession Number: 20170327-5180.

Comments Due: 5 p.m. ET 4/17/17.

Take notice that the Commission received the following electric rate filings:

Docket Numbers: ER11-2855-022;ER11-2856-022; ER11-2857-022;ER10-2488-014; ER10-2722-008;ER10-2787-006; ER12-2037-009.

Applicants: Avenal Park LLC, Sand Drag LLC, Sun City Project LLC, Oasis Power Partners, LLC, Eurus Combine Hills I LLC, Eurus Combine Hills II LLC, Spearville 3, LLC.

Description: Notice of Non-Material Change in Status of the Eurus MBR Entities.

Filed Date: 3/24/17.

Accession Number: 20170324-5338.

Comments Due: 5 p.m. ET 4/14/17.

Docket Numbers: ER16-1983-002.

Applicants: California Independent System Operator Corporation.

Description: Compliance filing: 2017-03-24 Second Petition Waiver Delay Implementation RTD LMPM to be effective N/A.

Filed Date: 3/24/17.

Accession Number: 20170324-5331.

Comments Due: 5 p.m. ET 4/14/17.

Docket Numbers: ER17-415-002.

Applicants: California Independent System Operator Corporation.

Description: Compliance filing: 2017-03-24 Second Petition Waiver Delay Implementation Admin Pricing to be effective N/A.

Filed Date: 3/24/17.

Accession Number: 20170324-5328.

Comments Due: 5 p.m. ET 4/14/17.

Docket Numbers: ER17-853-001.

Applicants: California Independent System Operator Corporation.

Description: Compliance filing: 2017-03-24 Petition Waiver Delay Implementation CRR Clawback Modification to be effective N/A.

Filed Date: 3/24/17.

Accession Number: 20170324-5330.

Comments Due: 5 p.m. ET 4/14/17.

Docket Numbers: ER17-1099-001.

Applicants: Arizona Public Service Company.

Description: Tariff Amendment: Amendment to Formula Rate Protocol Modification to be effective 5/1/2017.

Filed Date: 3/24/17.

Accession Number: 20170324-5312.

Comments Due: 5 p.m. ET 4/14/17.

Docket Numbers: ER17-1301-000.

Applicants: PJM Interconnection, L.L.C.

Description: § 205(d) Rate Filing: First Revised ISA, Service Agreement No. 2185, Non-Queue position NQ140 to be effective 12/3/2009.

Filed Date: 3/24/17.

Accession Number: 20170324-5308.

Comments Due: 5 p.m. ET 4/14/17.

Docket Numbers: ER17-1302-000.

Applicants: Midcontinent Independent System Operator, Inc.

Description: § 205(d) Rate Filing: 2017-03-24_Revisions to Attachment LL for implementation of EARs to be effective 6/1/2017.

Filed Date: 3/24/17.

Accession Number: 20170324-5309.

Comments Due: 5 p.m. ET 4/14/17.

Docket Numbers: ER17-1303-000.

Applicants: Midcontinent Independent System Operator, Inc.

Description: § 205(d) Rate Filing: 2017-03-24_RS 8 Manitoba Hydro-MISO Seams Opr Agr EAR Revisions to be effective 6/1/2017.

Filed Date: 3/24/17.

Accession Number: 20170324-5310.

Comments Due: 5 p.m. ET 4/14/17.

Docket Numbers: ER17-1304-000.

Applicants: Midcontinent Independent System Operator, Inc.

Description: § 205(d) Rate Filing: 2017-03-24_Revisions to RS 46 Minnkota-MISO Coor Opr Agr to implement EARs to be effective 6/1/2017.

Filed Date: 3/24/17.

Accession Number: 20170324-5311.

Comments Due: 5 p.m. ET 4/14/17.

Docket Numbers: ER17-1305-000.

Applicants: Midcontinent Independent System Operator, Inc.

Description: § 205(d) Rate Filing: 2017-03-24_Revisions to MISO-PJM JOA to implement EARs to be effective 6/1/2017.

Filed Date: 3/24/17.

Accession Number: 20170324-5318.

Comments Due: 5 p.m. ET 4/14/17.

Docket Numbers: ER17-1306-000.

Applicants: PJM Interconnection, L.L.C.

Description: § 205(d) Rate Filing: Revisions to PJM-MISO JOA re: CMP Dynamic Schedules (EAR) and DA FFE Adjustments to be effective 6/1/2017.

Filed Date: 3/24/17.

Accession Number: 20170324-5329.

Comments Due: 5 p.m. ET 4/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2017.
Kimberly D. Bose,
Secretary.

[FR Doc. 2017-06415 Filed 3-31-17; 8:45 am]

BILLING CODE 6717-01-P